DEPARTMENT OF COMMERCE

National Oceanic and Atmospheric Administration

50 CFR Part 660

[Docket No. 000501119-0119-01; I.D. 042400J]

RIN 0648-AN81

Fisheries Off West Coast States and in the Western Pacific; West Coast Salmon Fisheries; 2000 Management Measures

AGENCY: National Marine Fisheries Service (NMFS), National Oceanic and Atmospheric Administration (NOAA), Commerce.

ACTION: Annual management measures for the ocean salmon fishery; request for comments.

SUMMARY: NMFS establishes fishery management measures for the ocean salmon fisheries off Washington, Oregon, and California for the 2000 and 2001 salmon seasons opening earlier than May 1, 2001. Specific fishery management measures vary by fishery and by area. The measures establish fishing areas, seasons, quotas, legal gear, recreational fishing days and catch limits, possession and landing restrictions, and minimum lengths for salmon taken in the exclusive economic zone (EEZ) (3-200 nm) off Washington, Oregon, and California. The management measures are intended to prevent overfishing and to apportion the ocean harvest equitably among treaty Indian and non-treaty commercial and recreational fisheries. The measures are also intended to allow a portion of the salmon runs to escape the ocean fisheries in order to provide for spawning escapement and for inside fisheries.

DATES: Effective from 0001 hours Pacific Daylight Time, May 2, 2000, until the effective date of the 2001 management measures, as published in the Federal Register. Comments must be received by May 22, 2000.

ADDRESSES: Comments on the management measures and the related environmental assessment (EA) may be sent to William Stelle, Jr., Regional Administrator, Northwest Region, NMFS, 7600 Sand Point Way NE., Seattle, WA 98115-0070, fax: 206-526-6376; or to Rodney R. McInnis, Acting Regional Administrator, Southwest Region, NMFS, 501 West Ocean Boulevard, Suite 4200, Long Beach, CA 90802-4213, fax: 562-980-4018.

Copies of the EA and other documents cited in this document are available from Dr. Donald O. McIsaac, Executive Director, Pacific Fishery Management Council, 2130 S.W. Fifth Ave., Suite 224, Portland, OR 97201.

FOR FURTHER INFORMATION CONTACT: William L. Robinson at 206-526-6140, or Svein Fougner at 562-980-4040.

SUPPLEMENTARY INFORMATION:

Background

The ocean salmon fisheries in the EEZ off Washington, Oregon, and California are managed under a “framework” fishery management plan entitled the Pacific Coast Salmon Plan (FMP). Regulations at 50 CFR part 660, subpart H, provide the mechanism for making preseason and inseason adjustments to the management measures, within limits set by the FMP, by notification in the Federal Register.

These management measures for the 2000 and pre-May 2001 ocean salmon fisheries were recommended by the Pacific Fishery Management Council (Council) at its April 3 to 7, 2000, meeting. Schedule Used to Establish 2000 Management Measures

In accordance with the FMP, the Council's Salmon Technical Team (STT) and staff economist prepared several reports for the Council, its advisors, and the public. The first report, “Review of 1999 Ocean Salmon Fisheries,” (REVIEW) summarizes biological and socio-economic data for the 1999 ocean salmon fisheries and assesses how well the Council's 1999 management objectives were met. The second report, “Preseason Report I Stock Abundance Analysis for 2000 Ocean Salmon Fisheries” (PRE I), provides the 2000 salmon stock abundance projections and analyzes the impacts on the stocks and Council management goals if the 1999 regulations and regulatory procedures were applied to the 2000 stock abundances.

The Council met from March 6 to 10, 2000, in Sacramento, CA, to develop proposed management options for 2000. Three commercial and three recreational fishery management options were proposed for analysis and public comment. These options consisted of various combinations of management measures designed to protect numerous weak stocks of coho and chinook salmon and to provide for ocean harvests of more abundant stocks. After the March Council meeting, the Council's STT and staff economist prepared a third report, “Preseason Report II Analysis of Proposed Regulatory Options for 2000 Ocean Salmon Fisheries,” which analyzes the effects of the proposed 2000 management options. This report also was made available to the Council, its advisors, and the public.

Public hearings to receive public testimony on the proposed options were held on March 27, 2000, in Westport, WA; North Bend, OR; and Santa Rosa, CA; and, on March 28, 2000, in Tillamook, OR; Moss Landing, CA; and Eureka, CA. The Council also received public testimony at both the March and April meetings, and received written comments at the Council office.

The Council met on April 3 to 7, 2000, in Portland, Oregon, to adopt its final 2000 recommendations. Following the April Council meeting, the Council's STT and staff economist prepared a fourth report, “Preseason Report III Analysis of Council-Adopted Management Measures for 2000 Ocean Salmon Fisheries,” which analyzes the environmental and socio-economic effects of the Council's final recommendations. This report also was made available to the Council, its advisors, and the public. After the Council took final action on the annual ocean salmon specifications in April, it published the recommended management measures in its newsletter.

Resource Status

Since 1989, NMFS has listed under the Endangered Species Act (ESA) 16 evolutionarily significant units (ESU) of salmon on the west coast. As the listings have occurred, NMFS has initiated formal ESA section 7 consultations and issued biological opinions (BOs) that consider the impacts to listed salmonid species, resulting from proposed implementation of the FMP, or in some cases, from proposed implementation of the annual management measures. Some of the BOs have concluded that implementation of the FMP is not likely to jeopardize the continued existence of certain listed ESUs. Other BOs have found the FMP is likely to jeopardize certain listed ESUs and have identified reasonable and prudent alternatives (ESA consultation standards) that would avoid the likelihood of jeopardizing the continued existence of the ESU under consideration. Since completion of the April 30, 1999, supplement to the March 8, 1996, BO on the effect of ocean fisheries on endangered and threatened salmon, NMFS has listed California Central Valley spring chinook and California coastal chinook as threatened under the ESA (64 FR 50394, September 16, 1999). In a March 7, 2000, letter to the Council, NMFS provided the Council with ESA standards and guidance for the management of stocks listed under the ESA in anticipation of the BOs in preparation for the 2000 management season.

Estimates of the 1999 spawning escapements for key stocks managed under the FMP and preseason estimates of 2000 ocean abundance are provided in the Council's REVIEW and PRE I documents. The primary resource and management concerns are for salmon stocks listed under the ESA, Queets River coho, and Klamath River fall chinook.

Oregon coastal natural (OCN) coho are the largest naturally produced component of the natural and hatchery coho stocks originating from rivers south of Leadbetter Point, WA. OCN coho are managed as a stock aggregate with four identified sub-stocks that include coho produced from Oregon river and lake systems south of the Columbia River. NMFS has listed three ESUs of coho under the ESA: central California coastal, southern Oregon/northern California coastal, and Oregon coastal. The three northern sub-stocks of OCN coho comprise the Oregon coastal coho ESU. NMFS' ESA consultation standards require that the three OCN northern sub-stocks be managed in accordance with Amendment 13 to the FMP, which permits an exploitation rate of up to 15-percent under the current level of ocean survival. The southern sub-stock is part of the southern Oregon/northern California coastal ESU and must be managed in accordance with the requirements for that ESU. The 2000 ocean abundance estimate for OCN is 55,900 coho, which is 8-percent above the 1999 post-season estimate of 51,900 coho and twice the post-season estimate of the 1997 parent brood (PRE I).

Central California coast coho and southern Oregon/northern California coast coho are listed as threatened species under the ESA (61 FR 56138, October 31, 1996, and 62 FR 24588, May 6, 1997). Coho populations in California have not been monitored closely in the past, and no forecasts of the ocean abundance of listed coho originating from California are available; these runs have been generally at low abundance levels for many years. NMFS' ESA consultation standards for the southern Oregon/northern California coastal coho and Central California coastal coho ESUs require that the ocean exploitation rate on Rogue/Klamath hatchery coho be constrained to 13-percent or less, and that the retention of coho in recreational and commercial fisheries off California be prohibited.

Sacramento River winter chinook is listed as an endangered species under the ESA (59 FR 440, January 4, 1994). NMFS' ESA consultation standards require that all harvest-related impacts to the Sacramento River winter chinook salmon population be reduced by a level that would achieve at least a 31-percent increase in the age-3 spawner-to-spawner replacement rate over a base period of 1989 through 1993. The 1999 spawning run size was estimated to be 885 adults, a 45-percent increase over the estimated 1996 adult escapement, but short of the goal of 1,083 adults. Neither preseason nor postseason estimates of ocean abundance are available for winter chinook; however, the run is expected to remain depressed in 2000.

Columbia River fall chinook abundance estimates are made for distinct fall chinook stock units. Lewis River wild chinook ocean escapement is forecast at 3,500 adults, 106-percent of the 1999 run size of 3,300 adults (PRE I). The forecast is 61-percent of the 5,700 spawning escapement goal. This decline and the expectation that Lewis River will not meet the spawning escapement goal for wild chinook are due to short term impacts from previous flooding events; therefore, this decline should not be a long-term trend. Lower river hatchery (Tules) fall chinook ocean escapement is forecast at 23,700 adults, a record low return, 37-percent below the 1999 observed return of 37,400 adults (PRE I). This stock has declined sharply since the record high return in 1987. Lower Columbia River fall chinook stocks normally account for more than half the total catch in Council area fisheries north of Cape Falcon, with lower river hatchery fall chinook being the single largest contributing stock. The forecast return is 26-percent below the current estimated ocean escapement of 32,000 adults needed to meet brood stock requirements.

Snake River wild fall chinook are listed under the ESA as a threatened species (57 FR 14653, April 22, 1992). Information on the stock's ocean distribution and on fishery impacts is not available. Fishery impacts on Snake River fall chinook are evaluated using the Lyons Ferry Hatchery stock. The Lyons Ferry stock is widely distributed and harvested by ocean fisheries from southern California to Alaska. NMFS' ESA consultation standard requires that Council fisheries must be managed to ensure that the exploitation rate of age-3 and age-4 adults for the combined Southeast Alaska, Canadian, and Council fisheries is 30-percent less than that observed during the 1988-1993 base period under the terms of the 1999 Pacific Salmon Treaty.

Klamath River fall chinook ocean abundance is projected to be 205,900 age-3 and age-4 fish at the beginning of the fishing season. The abundance forecast is 95-percent above the 1999 preseason abundance estimate and 25-percent above the average of postseason estimates for 1990-1999 (PRE I). The 1999 natural spawning escapement of 18,600 adults did not achieve the minimum escapement goal of 35,000 natural spawners (fish that spawn outside hatcheries).

The Queets River coho has a conservation objective, or maximum sustainable yield (MSY) goal, of 5,800 to 14,500 adult spawners. However, under the Hoh v. Baldrige court decisions and under the FMP, the State of Washington and the Coastal Indian treaty tribes may in any year agree on a spawning escapement objective less than the MSY goal. The State of Washington and the Quinault Nation have agreed to manage the 2000 fisheries for an overall escapement of 3,200 and a wild escapement of 2,500 coho. From 1997-99 the postseason estimates of spawners have been 2,100, 5,500, and 5,300 respectively, all well under the MSY goal. However, the wild component of the spawning escapement has only missed the annual management goal agreed to by the State and Tribes in one year, 1997.

The Council has adopted Amendment 14 to the FMP which revises the overfishing provisions of the FMP to be consistent with the 1996 Sustainable Fisheries Act amendments to the Magnuson-Stevens Fishery Conservation and Management Act (Magnuson-Stevens Act). However, the Council has not yet submitted Amendment 14 to NMFS to begin Secretarial review. Therefore, the overfishing provisions of the current FMP are still in force. Under the current FMP, a stock is considered overfished if it misses its annual management targets for 3 consecutive years. In such case, the Council is required to prepare a detailed report determining the causes for the failure to meet the annual goals and take whatever actions are reasonable to rebuild the stock if harvest controls can have a significant positive impact. Since the wild Queets River coho escapement has fallen short of the annually agreed to goals in only 1 of the last 3 years, Queets coho are not considered overfished.

However, Amendment 14, if approved, would change the criteria for determining when a Washington coastal stock is defined as overfished from missing the annual agreed goal for 3 consecutive years to missing the MSY escapement goal for 3 consecutive years. Under the new definition, Queets River coho will be defined as overfished, and the Council will have to prepare a rebuilding plan.

The potential designation of Queets coho as overfished under Amendment 14 is controversial because the co-managers, WDFW and the Quinault Indian Nation, have had yearly agreements to manage the yearly escapement targets at less than 5,800 fish. They have indicated that the use of these preseason agreed escapement goals is more reflective of the current habitat conditions in the Queets River basin and that the MSY range of 5,800-14,500 fish was derived when habitat conditions supported a higher stock size, and may no longer be a true MSY goal.

Management Measures for 2000

The Council recommended allowable ocean harvest levels and management measures for 2000 are designed to apportion the burden of protecting the weak stocks identified and discussed in PRE I equitably among ocean fisheries and to allow maximum harvest of natural and hatchery runs surplus to inside fishery and spawning needs. NMFS finds the Council's recommendations responsive to the goals of the FMP, the requirements of the resource, and the socio-economic factors affecting resource users. The recommendations are consistent with the requirements of the Magnuson-Stevens Act and other applicable law, including the ESA and U.S. obligations to Indian tribes with Federally recognized fishing rights. Accordingly, NMFS has adopted them.

The dominant issues before the Council in developing final management recommendations were achieving an acceptable ocean exploitation rate on OCN and southern Oregon/northern California coho; meeting NMFS' ESA consultation standard for Sacramento River winter chinook; protection of depressed Puget Sound and Washington coastal coho salmon; and the allocation of Klamath River fall chinook between California and Oregon commercial fisheries.

Amendment 13 to the FMP, which was approved by NMFS in April 1999, provides separate exploitation rate targets for four OCN sub-stocks that depend on measures of prior escapement and ocean survival. NMFS' ESA consultation standard requires that the three northern sub-stocks be managed in accordance with Amendment 13, which permits an exploitation rate of up to 15-percent under the currently estimated level of ocean survival. However, NMFS provided guidance that the Council should target a precautionary exploitation rate not higher than 8.73-percent, which was the 1999 preseason exploitation rate projection. The guidance was based on concerns that: (1) The aggregate OCN coho broods had not replaced themselves in the past 3 years; (2) the actual OCN ocean abundance may fall short of the preseason forecast if the current trend of the previous 3 years in overestimated forecasts continues; and (3) the 1997 parent brood of OCN coho subject to harvest in 2000 was the lowest recorded for the last 10 years at 27,800. The Council's recommendations resulted in an 8.2-percent exploitation rate for OCN coho (freshwater and marine) and a 6.0-percent marine exploitation rate impact for Rogue/Klamath coho, which are the index stocks for the southern Oregon/northern California coho stocks. Retention of coho off California continues to be prohibited for the sixth consecutive year.

The Council's recommended measures, which are expected to produce an 8.2-percent OCN coho exploitation rate, are based on a revised hooking mortality rate estimate of 14-percent in recreational fisheries, including selective fisheries. The Council increased the hooking mortality from 8 percent to 14 percent at its March 2000 meeting based on recommendations by the STT and Scientific and Statistical Committee.

In 1999 the Council recommended and NMFS approved a selective fishery for 15,000 coho off the Oregon coast, in which hatchery marked coho with a healed adipose fin clip could be retained. The selective fishery is controversial because of potential impacts on OCN coho. This year the Council adopted a final recommendation for a 20,000 coho selective fishery following consideration of an initial proposal for a 25,000 fish selective fishery, and later a proposal from Oregon for a 15,000 fish selective fishery. Oregon will again intensively monitor this selective fishery to gain more information regarding impacts of the selective fishery and to help in the shaping of future selective fisheries. NMFS believes the modest selective fishery and planned monitoring program are sufficiently precautionary.

This year, the Council's Salmon Advisory Subpanel was unable to reach agreement on a recommendation to the Council regarding the sharing of the Klamath River fall chinook harvest between the commercial fisheries off Oregon and California. The Council voted on the allocation, adopting a recommendation for a 57/43 allocation between California and Oregon, respectively.

From the U.S.-Canada border to Cape Falcon, ocean fisheries are managed to protect depressed lower Columbia River fall chinook salmon and Washington coastal and Puget Sound natural coho salmon stocks and to meet ESA requirements for Snake River fall chinook salmon. Ocean treaty and non-treaty harvests and management measures were based in part on negotiations between Washington State fishery managers, commercial and recreational fishing groups, and the Washington coastal, Puget Sound, and Columbia River treaty Indian tribes as authorized by the U.S. District Court in U.S. v. Washington, U.S. v. Oregon, and Hoh Indian Tribe v. Baldrige.

North of Cape Falcon, Oregon, the 2000 management measures are more restrictive than in 1999. The total allowable catch for 2000 is 25,000 chinook and 100,000 coho; these fisheries are restricted to protect depressed Washington coastal, Puget Sound, and OCN coho. Washington coastal and Puget Sound chinook generally migrate to the far north and are affected insignificantly by ocean harvests from Cape Falcon to the U.S.-Canada border.

The new Columbia River Control Zone adopted in 1999 for the recreational fisheries was extended to the commercial fisheries in 2000. The boundaries are defined in sections 1.C.4.a. and 2.C.3.a. of the 2000 management measures. The Council adopted this change to avoid the confusion of having two different boundaries for the these user groups in this area. South of Cape Falcon, OR, the retention of coho is prohibited for the sixth consecutive year, except for a recreational selective fishery off Oregon in July with a 20,000 fish quota of marked hatchery coho. Chinook fisheries are constrained primarily to meet the Klamath River fall chinook natural spawner escapement floor and ESA standards for Sacramento River winter chinook. These constraints also limit impacts on threatened Snake River fall chinook, Central Valley spring chinook, and California coastal chinook and reduce release mortality on Oregon coastal coho, southern Oregon/northern California coast coho, and central California coho. Size limit, gear, and seasonal restrictions are intended to reduce harvest impacts on endangered Sacramento River winter chinook.

The Council recommended a minimum size limit in the recreational fishery of 24 in (61.0 cm) south of Horse Mountain through May 31, and 20 in (50.8 cm) thereafter, in conjunction with a 2 week delay in the opening of the recreational seasons south of Point Arena to reduce incidental ocean harvest of Sacramento River winter chinook and Central Valley spring chinook. In order to minimize hooking mortality, the Council recommended the continuation of gear restrictions (circle hooks while mooching) for recreational fisheries off California, and extension of the gear restrictions for mooching to commercial fisheries.

The Council recommended for the third year a commercial troll test fishery operating inside 6 nautical miles (nm) (11.1 km) from July 1 through July 15 between Fort Ross and Point Reyes under a 4,500-fish quota. The test fishery is designed to assess the relative contribution of Klamath River fall chinook to the catch of a near-shore commercial fishery in the test area.

NMFS concluded that incidental fishery impacts that occur in the ocean salmon fishery proposed for the period from May 1, 2000, through April 30, 2001 (or until the effective date of the 2001 management measures), will not jeopardize the continued existence of ESA listed salmon.

Treaty Indian Fisheries

The treaty-Indian commercial troll fishery is expected to land its quota of 25,500 chinook in ocean management areas and Area 4B combined. The landings result from a chinook-directed fishery in May and June (under a quota of 20,000 chinook) and the all-salmon season beginning in August with a 5,500 chinook quota. The expected 2000 harvest would be a reduction from the observed harvest in 1999. The coho quota and projected catch for the treaty-Indian troll fishery in ocean management areas, including Washington State Statistical Area 4B for the May-September period is 20,000 coho, a significant decrease from 1999.

2001 Fisheries

The timing of the March and April Council meetings makes it impracticable for the Council to recommend fishing seasons that begin before May 1 of the same year. Therefore, the 2001 fishing seasons opening earlier than May 1 are also established in this action. The Council recommended and NMFS concurs that the recreational seasons from Horse Mountain to the U.S. Mexico Border will open off California in 2001 as indicated in the season description section. In addition, at the March 2000 meeting, the Council will consider inseason recommendations to (1) Establish management measures for an all-salmon-except-coho recreational and commercial fishery prior to May 1, in areas off Oregon, and (2) recommend the areas, season, quota, and special regulations for experimental fisheries in April (proposals must meet Council protocol and be received in November 2000).

Inseason Actions

The following sections set out the management regime for the salmon fishery. Open seasons and days are described in Sections 1, 2, and 3 of the 2000 management measures. Inseason closures in the commercial and recreational fisheries are announced on the NMFS hotline and through the Coast Guard Notice to Mariners as described In Section 7. Other inseason adjustments to management measures are also announced on the hotline and through Notice to Mariners.

The following are the management measures recommended by the Council and approved and implemented by NMFS for 2000 and, as specified, for 2001.

Section 1. Commercial Management Measures for 2000 Ocean Salmon Fisheries

Note: This section contains important restrictions in parts A, B, and C which must be followed for lawful participation in the fishery.

A. Season Description—North of Cape Falcon

U.S.-Canada Border to Cape Falcon

May 1 through earlier of June 15 or 11,000 chinook guideline (see C.7.a.). All salmon except coho. See gear restrictions in C.2. Columbia Control Zone is closed (see C.4.a. for description of newly defined area for 2000 which is identical to the recreational control zone). [Inseason actions may modify harvest guidelines in later fisheries to achieve or prevent exceeding the overall allowable troll harvest impacts (C.7.)]

Queets River to Cape Falcon

Aug. 4 through earliest of Sept. 30 or the overall chinook quota (preseason 1,500 chinook guideline; see C.7.a.) or a quota of 25,000 coho with healed adipose fin clips. All salmon. Cycle of 4 days open/3 days closed. See gear restrictions in C.2. Each vessel may possess, land, and deliver no more than 50 chinook per open period. However, no possession or landing restrictions will initially apply if the chinook harvest guideline is at least 2,500 chinook as a result of the transfer of uncaught harvest from the May/June fishery. Trip limits, gear restrictions, and harvest guidelines may be instituted and adjusted inseason. Vessels must land and deliver their fish within 24 hours of any closure of this fishery within the area or in adjacent areas that are closed to all commercial non-Indian salmon fishing. Columbia Control Zone is closed (see C.4.a. for description of newly defined area for 2000, which is identical to the recreational control zone).

South of Cape Falcon

Cape Falcon to Humbug Mt.

Apr. 1 through July 22; Aug. 1 through Aug. 29; and Sept. 1 through Oct. 31. All salmon except coho. See gear restrictions in C.2. See Oregon State regulations for a description of the closed area at the mouth of Tillamook Bay.

Humbug Mt. to OR-CA Border

May 1 through May 31. All salmon except coho. See gear restrictions in C.2.

Sisters Rocks to Oregon-California Border

Aug. 1 through earlier of Aug. 31 or 1,300 chinook quota. All salmon except coho. Possession and landing limit of 30 fish per day. See gear restrictions in C.2. All salmon must be landed and delivered to Gold Beach, Port Orford or Brookings within 24 hours of closure.

House Rock, Oregon to Humboldt South Jetty

Sept. 1 through earlier of Sept. 30 or 7,000 chinook quota. All salmon except coho. Possession and landing limit of 30 fish per day. All fish caught in this area must be landed within the area. See gear restrictions in C.2. Klamath Control Zone closed (C.4.). The 7,000 chinook quota includes a harvest guideline limiting landings at the port of Brookings to no more than 1,000 chinook. If this guideline is reached prior to the overall quota, the fishery will close north of the Oregon-California border. When the fishery is closed north of the Oregon-California border and open to the south, Oregon State regulations provide for the following Vessels with fish on board caught in the open area off California may seek temporary mooring in Brookings, Oregon prior to landing in California only if such vessels first notify the Chetco River Coast Guard Station via VHF channel 22A between the hours of 0500 and 2200 and provide the vessel name, number of fish on board, and estimated time of arrival.

Horse Mt. to Pt. Arena (Fort Bragg)

Sept. 1 through Sept. 30. All salmon except coho. Minimum size 26 in (66.0 cm). See gear restrictions in C.2.

Pt. Arena to Pt. Reyes (Bodega Bay)

July 18 through Sept. 30. All salmon except coho. Minimum size 27 in (68.6 cm). See gear restrictions in C.2.

Fort Ross to Pt. Reyes (test fishery inside 6 nm (11.1 km))

July 1 through earlier of July 15 or 4,500 chinook quota. All salmon except coho. Fishery closed July 4. Minimum size 26 in (66.0 cm) (to be consistent with 1998 and 1999 test fisheries). Open only inside 6 nm (11.1 km). Possession and landing limit of 30 fish per day. See gear restrictions in C.2. All fish caught in this area must be landed in Bodega Bay. Fish taken outside this area may not be landed at Bodega Bay while this fishery is open.

Pt. Reyes to Pt. San Pedro

May 29 through Sept. 30. All-salmon-except-coho. Minimum size 26 in (66.0 cm) through June 30 and 27 in (68.6 cm) thereafter. See gear restrictions in C.2.

Pt. San Pedro to U.S.-Mexico Border

May 1 through Aug. 27. All salmon except coho. Minimum size 26 in (66.0 cm) through June 30 and 27 in (68.6 cm) thereafter. See gear restrictions in C.2.

B. Minimum Size
[Inches]
Area (when open) | Chinook: Total length | Chinook: Head-off | Coho: Total length | Coho: Head-off | Pink
North of Cape Falcon | 28.0 | 21.5 | 16.0 | 12.0 | None.
Cape Falcon to Pt. Arena | ᵃ 26.0 | ᵃ 19.5 |  |  | None.
South of Pt. Arena prior to July 1 | ᵃ 26.0 | ᵃ 19.5 |  |  | None.
South of Pt. Arena after June 30 | a b 27.0 | a b 20.25 |  |  | None.
ᵃ Chinook not less than 26 in (19.5 in head-off) taken in open seasons south of Cape Falcon may be landed north of Cape Falcon only when the season is closed north of Cape Falcon.
ᵇ Except minimum size limit of 26 in total length in the Bodega Bay test fishery.
Metric equivalents: 28.0 in=71.1 cm, 27.0 in=68.6 cm, 26.0 in=66.0 cm, 21.5 in=54.6 cm, 20.25 in=51.4 cm, 19.5 in=49.5 cm, 16.0 in=40.6 cm, 12.0 in=30.5 cm

C. Special Requirements, Definitions, Restrictions, or Exceptions

C.1. Compliance with Minimum Size or Other Special Restrictions: All salmon on board a vessel must meet the minimum size or other special requirements for the area being fished and the area in which they are landed if that area is open. Salmon may be landed in an area that is closed only if they meet the minimum size or other special requirements for the area in which they were caught.

C.2. Gear Restrictions:

a. Single point, single shank barbless hooks are required in all fisheries.

b. Off Oregon South of Cape Falcon: No more than 4 spreads are allowed per line.

Spread defined: A single leader connected to an individual lure or bait.

c. Off California: No more than 6 lines are allowed per vessel and barbless circle hooks are required when fishing with bait by any means other than trolling.

Circle hook defined: A hook with a generally circular shape and a point which turns inward, pointing directly to the shank at a 90° angle.

Trolling defined: Fishing from a boat or floating device that is making way by means of a source of power, other than drifting by means of the prevailing water current or weather conditions, except when landing fish.

C.3. Transit Through Closed Areas with Salmon on Board: It is unlawful for a vessel to have troll gear in the water while transiting any area closed to salmon fishing while possessing salmon.

C.4. Control Zone Definitions (note modified description of Columbia Control Zone for 2000):

a. Columbia Control Zone—An area at the Columbia River mouth, bounded on the west by a line running northeast/ southwest between red lighted Buoy #4 (46°13′35″ N. lat., 124°06′50″ W. long.) and green lighted Buoy #7 (46°15′09″ N. lat., 124°06′16″ W. long.); on the east, by the Buoy #10 line which bears north/south at 357 true from the south jetty at 46°14′00″ N. lat., 124°03′07″ W. long. to its intersection with the north jetty; on the north, by a line running northeast/ northeast/southwest between green lighted Buoy #7 to the tip of the north jetty (46°14′48″ N. lat., 124°05′20″ W. long.), and then along north jetty to the point of intersection with the Buoy #10 line; and, on the south, by a line running northeast/southwest between red lighted Buoy #4 and the tip of the south jetty (46°14′03″ N. lat., 124°04′05″ W. long.), and then along the south jetty to the point of intersection with the Buoy #10 line.

b. Klamath Control Zone—The ocean area at the Klamath River mouth bounded on the north by 41°38′48″ N. lat. (approximately 6 nm (11.1 km) north of the Klamath River mouth); on the west, by 124°23′00″ W. long. (approximately 12 nm (22.2 km) off shore); and, on the south, by 41°26′48″ N. lat. (approximately 6 nm (11.1 km) south of the Klamath River mouth).

C.5. Notification When Unsafe Conditions Prevent Compliance with Regulations: If prevented by unsafe weather conditions or mechanical problems from meeting special management area landing restrictions, vessels must notify the U.S. Coast Guard and receive acknowledgment of such notification prior to leaving the area. This notification shall include the name of the vessel, port where delivery will be made, approximate amount of salmon (by species) on board and the estimated time of arrival. This stipulation will be implemented by state regulations for California, Oregon and Washington.

C.6. Incidental Halibut Harvest: During authorized periods, the operator of a vessel that has been issued an incidental halibut harvest license may retain Pacific halibut caught incidentally in Area 2A while trolling for salmon. License applications for incidental harvest must be obtained from the International Pacific Halibut Commission (phone 206-634-1838). Applicants must apply prior to April 1 of each year. Incidental harvest is authorized only during May and June troll seasons and after July 31 if quota remains and if announced on the NMFS hotline (phone 800-662-9825). ODFW and WDFW will monitor landings. If the landings are projected to exceed the 23,490-lb (10.7-mt) preseason allocation or the total Area 2A non-Indian commercial halibut allocation, NMFS will take inseason action to close the incidental halibut fishery. License holders may land no more than 1 halibut per each 3 chinook, except 1 halibut may be landed without meeting the ratio requirement, and no more than 35 halibut may be landed per trip. Halibut retained must be no less than 32 in (81.3 cm) in total length (with head on).

C.7. Inseason Management: In addition to standard inseason actions or modifications already noted under the season description, the following inseason guidance is provided to NMFS:

a. In the overall non-Indian commercial chinook quota north of Cape Falcon, 1,000 chinook in the May/June harvest guideline are the result of impacts assessed at the July/August harvest impact rate. Inseason, these 1,000 chinook (or remaining portion thereof) may be transferred to the July/August harvest guideline at a one-to-one rate if not caught in the May/June fishery. Any chinook remaining in the May/June harvest guideline in excess of 1,000 may be transferred to the July/August harvest guideline on a fishery impact equivalent basis.

b. At the March 2001 meeting, the Council will consider inseason recommendations to: (1) Open commercial seasons for all salmon except coho prior to May 1 in areas off Oregon, and (2) identify the areas, season, quota, and special regulations for any experimental April fisheries (proposals must meet Council protocol and be received in November 2000).

C.8. Consistent with Council management objectives, the State of Oregon may establish additional late-season, chinook-only fisheries in state waters. Check state regulations for details.

C.9. For the purposes of CDFG Code, Section 8232.5, the definition of the KMZ for the ocean salmon season shall be that area from Humbug Mt., Oregon to Horse Mt., California.

Section 2. Recreational Management Measures for 2000 Ocean Salmon Fisheries

Note: This section contains important restrictions in parts A, B, and C which must be followed for lawful participation in the fishery.

A. Season Description—North of Cape Falcon

U.S.-Canada Border to Cape Alava (Neah Bay Area)

July 3 through earlier of Sept. 30 (7 days per week) or subarea quota of 6,900 marked coho. All salmon, see following note concerning Area 4B. 2 fish per day, but only 1 chinook. All retained coho must have a healed adipose fin clip. See gear restrictions in C.2. Inseason management may be used to maintain season length and keep harvest within a guideline of 500 chinook.

Note: While ocean fishery is open in Area 4, no retention of chinook is allowed in Area 4B.

Cape Alava to Queets River (La Push Area)

July 3 through earlier of Sept. 30 (7 days per week) or subarea quota of 1,700 marked coho. All salmon. 2 fish per day, but only 1 chinook. All retained coho must have a healed adipose fin clip. See gear restrictions in C.2. Inseason management may be used to maintain season length and keep harvest within a guideline of 300 chinook.

Queets River to Leadbetter Pt. (Westport Area)

Sun. through Thurs. July 3 through earlier of Sept. 30 or subarea quota of 28,900 marked coho. All salmon. 2 fish per day, but only 1 chinook. All retained coho must have a healed adipose fin clip. See gear restrictions in C.2. Closed through Aug. 10 inside the area defined by a line drawn from the Westport lighthouse (46°53.3′ N. lat., 124°07.01′ W. long.) to Buoy #2 (46°52.7′ N. lat., 124°12.7′ W. long.) to Buoy #3 (46°55.0′ N. lat., 124°14.8′ W. long.) to the Grays Harbor north jetty (46°55.6′ N. lat., 124°10.85′ W. long.). Inseason management may be used to maintain season length and limit harvest within a guideline of 7,400 chinook.

Leadbetter Pt. to Cape Falcon (Columbia River Area)

Sun. through Thurs. July 10 through earlier of Sept. 30 or subarea quota of 37,500 marked coho. All salmon. 2 fish per day, but only 1 chinook. All retained coho must have a healed adipose fin clip. See gear restrictions in C.2. Coho retention is prohibited between Tillamook Head and Cape Falcon beginning Aug. 1 (i.e., all salmon except coho and a daily bag limit of 1 chinook). Closed in Columbia Control Zone (C.3.). Inseason management may be used to maintain season length and limit harvest within a guideline of 4,300 chinook.

South of Cape Falcon

Cape Falcon to Humbug Mt.

Except as provided below during the selective fishery, the season will be Apr. 1 through Oct. 31. All salmon except coho, 2 fish per day. No more than 6 fish in 7 consecutive days. See gear restrictions in C.2. See Oregon State regulations for a description of a closure at the mouth of Tillamook Bay.

Selective fishery for marked hatchery coho (healed adipose fin clip)

Sun., Tue., Wed., Thur., and Sat. of each week, July 1 through earlier of July 31 or a landed catch of 20,000 marked coho. All salmon. 2 fish per day. All retained coho must have a healed adipose fin clip. No more than 6 fish in 7 consecutive days. See gear restrictions C.2. Open days may be adjusted to utilize the available quota.

Note: On closed days during the selective fishery, no angling for any species of salmon is allowed. The all-salmon-except-coho season reopens the earlier of Aug. 1 or attainment of the coho quota.

Humbug Mt. to Horse Mt. (Klamath Management Zone)

May 27 through July 6, one fish per day; and July 29 through Sept. 10, two fish per day. All salmon except coho, no more than 4 fish in 7 consecutive days. See gear restrictions in C.2. Klamath Control Zone (C.3.) closed during Aug.

Horse Mt. to Pt. Arena (Fort Bragg)

Feb. 12 through July 6 and July 22 through Nov. 12. All salmon except coho, 2 fish per day. Minimum size 24 in (61.0 cm) through May 31 and 20 inc (50.8 cm) thereafter. See gear restrictions in C.2.

In 2001, season opens Feb. 17 (nearest Sat. to Feb. 15) for all salmon except coho, 2 fish per day. Minimum size 24 in (61.0 cm) and gear restrictions in C.2.

Pt. Arena to Pigeon Pt.

Apr. 15 through Nov. 5. All salmon except coho, 2 fish per day. Minimum size 24 in (61.0 cm) through May 31 and 20 in (50.8 cm) thereafter. See gear restrictions in C.2.

In 2001, the season will open Apr. 14 for all salmon except coho, 2 fish per day. Minimum size 24 in (61.0 cm) and gear restrictions in C.2.

Pigeon Pt. to U.S.-Mexico Border

Apr. 1 through Oct. 1. All salmon except coho, 2 fish per day. Minimum size 24 in (61.0 cm) through May 31 and 20 in (50.8 cm) thereafter. North of Pt. Conception, see gear restrictions in C.2.

In 2001, the season will open March 31 for all salmon except coho, 2 fish per day. Minimum size 24 in (61.0 cm) and gear restrictions in C.2.

B. Minimum Size
[Total Length in Inches]
Area (when open) | Chinook | Coho | Pink
North of Cape Falcon | 24.0 | 16.0 | None.
Cape Falcon to Horse Mt | 20.0 | 16.0 | None, except 20.0 off.
South of Horse Mt* | 20.0* | - | 20.0.
* Except 24.0 inches prior to June 1.
Metric equivalents: 24.0 in=61.0 cm, 20.0 in=50.8 cm, 16.0 in=40.6 cm.

C. Special Requirements, Definitions, Restrictions, or Exceptions

C.1. Compliance with Minimum Size and Other Special Restrictions: All salmon on board a vessel must meet the minimum size or other special requirements for the area being fished. Salmon may be landed in an area that is closed only if they meet the minimum size or other special requirements for the area in which they were caught.

C.2. Gear Restrictions: All persons fishing for salmon, and all persons fishing from a boat with salmon on board must meet the gear restrictions listed below for specific areas or seasons.

a. U.S.-Canada Border to Pt. Conception, California: No more than one rod may be used per angler and single point, single shank barbless hooks are required for all fishing gear. (Note: ODFW regulations in the state-water fishery off Tillamook Bay may allow the use of barbed hooks to be consistent with inside regulations.)

b. Off Oregon between Cape Falcon and Humbug Mt.: During the all-salmon-except coho season, legal gear is limited to artificial lures and plugs of any size, or bait no less than 6 in (15.2 cm) long (excluding hooks and swivels). All gear must have no more than 2 single point, single shank barbless hooks. Divers are prohibited and flashers may be used only with downriggers. During the all-salmon, mark-selective fishery, the legal gear limitations for this area are waived, except anglers must use no more than 2 single point, single shank barbless hooks.

c. Off California North of Pt. Conception: Anglers must use no more than 2 single point, single shank barbless hooks.

d. Off California between Horse Mt. and Pt. Conception: Single point, single shank, barbless circle hooks must be used if angling with bait by any means other than trolling and no more than 2 such hooks shall be used. When angling with 2 hooks, the distance between the hooks must not exceed 5 in (12.7 cm) when measured from the top of the eye of the top hook to the inner base of the curve of the lower hook, and both hooks must be permanently tied in place (hard tied). Circle hooks are not required when artificial lures are used without bait.

Circle hook defined: A hook with a generally circular shape and a point which turns inward, pointing directly to the shank at a 90° angle.

Trolling defined: Angling from a boat or floating device that is making way by means of a source of power, other than drifting by means of the prevailing water current or weather conditions, except when landing a fish.

C.3. Control Zone Definitions:

a. Columbia Control Zone—An area at the Columbia River mouth, bounded on the west by a line running northeast/ southwest between red lighted Buoy #4 (46°13′35″ N. Lat., 124°06′50″ W. long.) and green lighted Buoy #7 (46°15′09″ N. lat., 124°06′16″ W. long.); on the east, by the Buoy #10 line which bears north/south at 357 true from the south jetty at 46°14′00″ N. lat.,124°03′07″ West. long. to its intersection with the north jetty; on the north, by a line running northeast /southwest between green lighted Buoy #7 to the tip of the north jetty (46°14′48″ N. lat., 124°05′20″ W. long.) and then along the north jetty to the point of intersection with the Buoy #10 line; and, on the south, by a line running northeast/southwest between red lighted Buoy #4 and tip of the south jetty (46°14′03″ N. lat., 124°04′05″ W. long.), and then along the south jetty to the point of intersection with the Buoy #10 line.

b. Klamath Control Zone—The ocean area at the Klamath River mouth bounded on the north by 41°38′48″ N. lat. (approximately 6 nm (11.1 km) north of the Klamath River mouth); on the west, by 124°23′00″ W. long. (approximately 12 nm (22.2 km) off shore); and, on the south, by 41°26′48″ N. lat. (approximately 6 nautical miles (11.1 km) south of the Klamath River mouth).

C.4. Inseason Management: Regulatory modifications may become necessary inseason to meet preseason management objectives such as quotas, harvest guidelines and season duration. Actions could include modifications to bag limits or days open to fishing, and extensions or reductions in areas open to fishing. NMFS may transfer coho inseason among recreational subareas North of Cape Falcon to help meet the recreational season duration objectives (for each subarea) after conferring with representatives of the affected ports and the Salmon Advisory Subpanel recreational representatives north of Cape Falcon. At the March 2001 meeting, the Council will consider an inseason recommendation to open seasons for all salmon except coho prior to May 1 in areas off Oregon.

C.5. Additional Seasons in State Territorial Waters: Consistent with Council management objectives, the states of Washington and Oregon may establish limited seasons in state waters. Oregon state-water fisheries are limited to chinook salmon. Check state regulations for details.

Section 3. Treaty Indian Management Measures for 2000 Ocean Salmon Fisheries

Note: This section contains important restrictions in parts A, B, and C which must be followed for lawful participation in the fishery.

A. Season Descriptions

Tribe and area boundaries | Open seasons | Salmon species | Minimum size (inches): Chinook | Minimum size (inches): Coho | Special restrictions by area
Makah—That portion of the Fishery Management Area (FMA) north of 48°02′15″ N. lat. (Norwegian Memorial) and east of 125°44′00″ W. long | May 1 through earlier of June 30 or chinook quota August 1 through earliest of September 15 or chinook or coho quota | All except coho All | 24 24 | 16 | Barbless hooks. No more than 8 fixed lines per boat or no more than 4 hand-held lines per person.
Quileute—That portion of the FMA between 48°07′36″ N. lat. (Sand Point) and 47°31′42″ N. lat. (Queets River) and east of 125°44′00″ W. long | May 1 through earlier of June 30 or chinook quota August 1 through earliest of September 15 or chinook or coho quota | All except coho All | 24 24 | 16 | Barbless hooks. No more than 8 fixed lines per boat.
Hoh—That portion of the FMA between 47°54′18″ N. lat. (Quillayute River) and 47°21′00″ N. lat. (Quinault River) and east of 125°44′00″ W. long | May 1 through earlier of June 30 or chinook quota August 1 through earliest of September 15 or chinook or coho quota | All except coho All | 24 24 | 16 | Barbless hooks. No more than 8 fixed lines per boat.
Quinault—That portion of the FMA between 47°40′06″ N. lat. (Destruction Island) and 46°53′18″ N. lat. (Point Chehalis) and east of 125°44′00″ W. long | May 1 through earlier of June 30 or chinook quota August 1 through earliest of September 15 or chinook or coho quota | All except coho All | 24 24 | 16 | Barbless hooks. No more than 8 fixed lines per boat.
* Metric equivalents: 24 in=61.0 cm, 16 in=40.6 cm.

B. Special Requirements, Restrictions, and Exceptions

B.1. All boundaries may be changed to include such other areas as may hereafter be authorized by a Federal court for that tribe's treaty fishery.

B.2. Applicable lengths, in inches, for dressed, head-off salmon, are 18 in (45.7 cm) for chinook and 12 in (30.5 cm) for coho. Minimum size and retention limits for ceremonial and subsistence harvest are as follows:

Makah Tribe—None.

Quileute, Hoh and Quinault tribes—Not more than 2 chinook longer than 24 in (61.0 cm) in total length may be retained per day. Chinook less than 24 in (61.0 cm) total length may be retained.

B.3. The area within a 6-mile (9.7 km) radius of the mouths of the Queets River (47°31′42″ N. lat.) and the Hoh River (47°45′12″ N. lat.) will be closed to commercial fishing. A closure within 2 miles (3.2 km) of the mouth of the Quinault River (47°21′00″ N. lat.) may be enacted by the Quinault Nation and/or the State of Washington and will not adversely affect the Secretary of Commerce's management regime.

C. Quotas

C.1. The overall treaty troll ocean quotas are 25,500 chinook and 20,000 coho. The overall chinook quota is divided into 20,000 chinook for the May-June chinook-directed fishery and 5,500 chinook for the August-September all-salmon season. If the chinook quota for the May-June fishery is not fully utilized, the excess fish may not be transferred into the later all-salmon season. The quotas include troll catches by the S'Klallam and Makah tribes in Washington State Statistical Area 4B from May 1 through September 30.

Section 4. Halibut Retention

Under the authority of the Northern Pacific Halibut Act, NMFS promulgated regulations governing the Pacific halibut fishery which appear at 50 CFR part 300, subpart E. In addition, the 2000 Pacific halibut management measures were published in the Federal Register on March 20, 2000 (65 FR 14909). The regulations and management measures provide that vessels participating in the salmon troll fishery in Area 2A (all waters off the States of Washington, Oregon, and California), which have obtained the appropriate International Pacific Halibut Commission (IPHC) license, may retain halibut caught incidentally during authorized periods in conformance with provisions published with the annual salmon management measures. A salmon troller may participate in the halibut incidental catch fishery during the salmon troll season or in the directed commercial fishery targeting halibut, but not both.

The following measures have been approved. The operator of a vessel who has been issued an incidental halibut harvest license by the IPHC may retain Pacific halibut caught incidentally in Area 2A, during authorized periods, while trolling for salmon. Incidental harvest is authorized only during the May and June troll seasons. It is also authorized after July 31 if halibut quota remains and if halibut retention is announced on the NMFS hotline (phone 800-622-9825). License holders may land no more than 1 halibut per each 3 chinook, except 1 halibut may be landed without meeting the ratio requirement, and no more than 35 halibut may be landed per trip. Halibut retained must meet the minimum size limit of 32 in (81.3 cm). The Oregon Department of Fish and Wildlife and Washington Department of Fish and Wildlife will monitor landings and, if they are projected to exceed the 23,490-lb (10.7-mt) preseason allocation or the Area 2A non-Indian commercial total allowable catch of halibut, NMFS will take inseason action to close the incidental halibut fishery. License applications for incidental harvest must be obtained from the IPHC. Applicants must apply prior to April 1 of each year.

Section 5. Gear Definitions and Restrictions

In addition to the gear restrictions shown in Section 1, 2, and 3, the following gear definitions and restrictions will apply.

Commercial Troll Fishing Gear: Troll fishing gear for the ocean salmon fisheries in the EEZ off Washington, Oregon, and California is defined as one or more lines that drag hooks behind a moving fishing vessel. In that portion of the fishery management area (FMA) off Oregon and Washington, the line or lines must be affixed to the vessel and must not be intentionally disengaged from the vessel at any time during the fishing operation.

Recreational Fishing Gear: Recreational fishing gear for the FMA is defined as angling tackle consisting of a line with no more than one artificial lure or natural bait attached. In that portion of the FMA off Oregon and Washington, the line must be attached to a rod and reel held by hand or closely attended; the rod and reel must be held by hand while playing a hooked fish. No person may use more than one rod and line while fishing off Oregon or Washington. In that portion of the FMA off California, the line must be attached to a rod and reel held by hand or closely attended. Weights directly attached to a line may not exceed 4 lb (1.8 kg). While fishing off California north of Point Conception, no person fishing for salmon and no person fishing from a boat with salmon on board, may use more than one rod and line. Fishing includes any activity that can reasonably be expected to result in the catching, taking, or harvesting of fish.

Section 6. Geographical Landmarks

Wherever the words “nautical miles off shore” are used in this document, the distance is measured from the baseline from which the territorial sea is measured.

Geographical landmarks referenced in this document are at the following locations:

Cape Flattery | 48°23′00″ N. lat.
Cape Alava | 48°10′00″ N. lat.
Queets River | 47°31′42″ N. lat.
Leadbetter Point | 46°38′10″ N. lat.
Cape Falcon | 45°46′00″ N. lat.
Humbug Mountain | 42°40′30″ N. lat.
Sisters Rocks | 42°35′45″ N. lat.
Mack Arch | 42°13′40″ N. lat.
House Rock | 42°06′32″ N. lat.
Oregon-California Border | 42°00′00″ N. lat.
Humboldt South Jetty | 40°45′53″ N. lat.
Horse Mountain | 40°05′00″ N. lat.
Point Arena | 38°57′30″ N. lat.
Fort Ross | 38°31′00″ N. lat.
Point Reyes | 37°59′44″ N. lat.
Point San Pedro | 37°35′40″ N. lat.
Pigeon Point | 37°11′00″ N. lat.
Point Conception | 34°27′00″ N. lat.

Section 7. Inseason Notice Procedures

Actual notice of inseason management actions will be provided by a telephone hotline administered by the Northwest Region, NMFS, 206-526-6667 or 800-662-9825, and by U.S. Coast Guard Notice to Mariners broadcasts. These broadcasts are announced on Channel 16 VHF-FM and 2182 KHz at frequent intervals. The announcements designate the channel or frequency over which the Notice to Mariners will be immediately broadcast. Inseason actions will also be filed with the Federal Register as soon as practicable. Since provisions of these management measures may be altered by inseason actions, fishermen should monitor either the telephone hotline or Coast Guard broadcasts for current information for the area in which they are fishing.

Classification

This notification of annual management measures is exempt from review under Executive Order 12866.

The Assistant Administrator for Fisheries, NOAA (AA) finds good cause under 5 U.S.C. 553(b)(B), to waive the requirement for prior notice and opportunity for public comment. As described earlier (Schedule Used to Establish 2000 Management Measures), the Council solicited public comment on these measures and has notified the public of the measures it recommended for implementation. Providing for additional prior notice and opportunity for public comments on these measures through a rulemaking process would be impracticable and contrary to the public interest. Given the extremely low returns of many ocean salmon stocks listed under the ESA, the need to prevent overfishing, and the need to facilitate a level of escapement to meet the requirements of the resource and inside fisheries, it is essential to have these measures effective at the beginning of the fishing year. Failure to implement these measures immediately could compromise the status of certain stocks and negatively impact international, state, and tribal salmon fisheries, thereby undermining the purposes of this agency action.

For the reasons discussed earlier, NMFS has determined that good cause exists to waive the requirements of 50 CFR 660.411 for prior notice and opportunity for public comments. Section 660.411 of title 50, Code of Federal Regulations, requires NMFS to publish an action implementing management measures for ocean salmon fisheries each year and, if time allows, invite public comment prior to the effective date. Section 660.411 further states that if, for good cause, an action must be filed without affording a prior opportunity for public comment, the measures will become effective; however, public comments on the action will be received for a period of 15 days after filing of the action with the Office of the Federal Register. NMFS will receive public comments on this action for 15 days from the date of filing this action for public inspection with the Office of the Federal Register.

The AA also finds good cause under 5 U.S.C. 553(d)(3), to waive the 30-day delay in effectiveness of this rule. The finding of good cause is based upon the public's interest in having these provisions in place by the start of the ocean salmon fishing year (May 1, 2000). As previously discussed, these measures are essential to conserve threatened and endangered ocean salmon stocks, and to provide for harvest of more abundant stocks. The finding of good cause to waive the 30-day delay in effectiveness is also based on the limited time available to implement these new measures after the final Council meeting in April and before the commencement of the ocean salmon fishing year on May 1.

To enhance notification of the fishing industry of these new measures, NMFS is announcing the new measures over the telephone hotline used for inseason management actions and by U.S. Coast Guard Notice to Mariners Broadcast. NMFS also has advised the States of Washington, Oregon, and California, which announce the seasons for applicable state and Federal fisheries through their own public notification systems.

Since 1989, NMFS has listed 16 ESUs of salmon on the west coast. As the listings have occurred, NMFS has initiated formal ESA section 7 consultations and issued BOs which consider the impacts to listed salmonid species, resulting from proposed implementation of the FMP, or in some cases, from proposed implementation of the annual management measures. Some opinions have concluded that implementation of the FMP is not likely to jeopardize the continued existence of certain listed ESUs. Other opinions have found the FMP is likely to jeopardize certain listed ESUs, and have identified reasonable and prudent alternatives (ESA consultation standards) that would avoid the likelihood of jeopardizing the continued existence of the ESU under consideration. Since completion of the April 30, 1999, supplement to the March 8, 1996, BO on the effect of ocean fisheries on endangered and threatened salmon, NMFS has listed Central Valley spring chinook and California coastal chinook as threatened under the ESA (64 FR 50394, September 16, 1999).

NMFS reinitiated consultation and issued two BOs which address the potential effects of ocean salmon fisheries to newly listed species under the ESA; those opinions were signed on April 28, 2000, covering the two listed chinook ESUs in the ocean salmon fisheries, and on April 28, 2000, covering the ocean salmon fisheries for this season through April 30, 2001.

Based on these BOs, NMFS concludes that these management measures are not likely to jeopardize the continued existence of any ESU of salmon that is listed under the ESA. The Council's recommended management measures comply with the terms and conditions of the incidental take statements in all of the outstanding applicable BOs related to listed salmon species that may be affected by Council fisheries.

Authority: 16 U.S.C. 1801 et seq.

Dated: May 1, 2000.
Penelope D. Dalton,
Assistant Administrator for Fisheries, National Marine Fisheries Service.

[FR Doc. 00-11231 Filed 5-2-00; 11:28 am]

BILLING CODE 3510-22-P